DEPARTMENT OF ENERGY

Federal Energy Regulatory Commission

[Docket No. RP96-359-016]

Transcontinental Gas Pipe Line Corporation; Notice of Filing

July 1, 2003.

Take notice that on June 20, 2003, Transcontinental Gas Pipe Line Corporation (Transco) filed to amend the service agreement with Washington Gas Light Company (WGL). Transco states that it previously requested, in Docket No. RP96-359-016, that a negotiated delivery point facilities surcharge become effective June 1, 2003. Transco states in its June 20, 2003 letter, that due to construction delays, the in-service date of the Westmore Road Meter Stations, a delivery point to WGL, is now expected to occur on or about June 24, 2003. Therefore, Transco requests that the service agreement with WGL become effective July 1, 2003.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 7, 2003.

Magalie R. Salas,
Secretary.

[FR Doc. 03-17298 Filed 7-8-03; 8:45 am]

BILLING CODE 6717-01-P